DEPARTMENT OF THE INTERIOR

Minerals Management Service

Agency Information Collection Activities: Submitted for Office of Management and Budget (OMB) Review; Comment Request

AGENCY: Minerals Management Service (MMS), Interior.

ACTION: Notice of extension of information collection (1010-0017).

SUMMARY: To comply with the Paperwork Reduction Act of 1995 (PRA), we are notifying the public that we have submitted to OMB an information collection request (ICR) to renew approval of form MMS-128, Semiannual Well Test Report. This notice also provides the public a second opportunity to comment on the paperwork burden of this reporting requirement.

DATES: Submit written comments by August 7, 2002.

ADDRESSES: You may submit comments directly to the Office of Information and Regulatory Affairs, OMB, Attention: Desk Officer for the Department of the Interior (1010-0017), 725 17th Street, NW., Washington, DC 20503. Mail or hand-carry a copy of your comments to the Department of the Interior; Minerals Management Service; Attention: Rules Processing Team; Mail Stop 4024; 381 Elden Street; Herndon, Virginia 20170-4817. If you wish to e-mail comments to MMS, the e-mail address is: rules.comments@MMS.gov. Reference Information Collection 1010-0017 in your e-mail subject line. Include your name and return address in your e-mail message and mark your message for return receipt.

FOR FURTHER INFORMATION CONTACT: Alexis London, Rules Processing Team, at (703) 787-1600. You may also contact Alexis London to obtain a copy of the form at no cost.

SUPPLEMENTARY INFORMATION: Title: Form MMS-128, Semiannual Well Test Report.

OMB Control Number: 1010-0017.

Abstract: The Outer Continental Shelf (OCS) Lands Act (Act), as amended (43 U.S.C. 1331 et seq. and 43 U.S.C. 1801 et seq.), authorizes the Secretary of the Interior to prescribe rules and regulations to administer leasing of the OCS. Such rules and regulations will apply to all operations conducted under a lease. Operations on the OCS must preserve, protect and develop oil and natural gas resources in a manner which is consistent with the need to make such resources available to meet the Nation's energy needs as rapidly as possible; to balance orderly energy resource development with protection of human, marine, and coastal environments; to ensure the public a fair and equitable return on the resources of the OCS; and to preserve and maintain free enterprise competition.

This notice pertains to a form used to collect information required under 30 CFR 250, subpart K, on production rates. Section 250.1102(b) requires respondents to submit form MMS-128. Responses are mandatory. No questions of a “sensitive” nature are asked. MMS will protect proprietary information according to 30 CFR 250.196 (Data and information to be made available to the public), 30 CFR part 252 (OCS Oil and Gas Information Program), and the Freedom of Information Act (5 U.S.C. 552) and its implementing regulations (43 CFR 2). Regional Supervisors use information submitted on form MMS-128 to evaluate the results of well tests to find out if reservoirs are being depleted in a way that will lead to the greatest ultimate recovery of hydrocarbons. We designed the form to present current well data on a semiannual basis to allow the updating of permissible producing rates and to provide the basis for estimates of currently remaining recoverable gas reserves. We are proposing no changes to the data elements on form MMS-128. However, we are reducing the number of copies respondents must submit to only an original and “one” copy.

Frequency: Semiannual.

Estimated Number and Description of Respondents: Approximately 130 Federal OCS oil and gas lessees.

Estimated Reporting and Recordkeeping “Hour” Burden: The burden for submitting semiannual well test reports does not include the time to test the well or the pre-stabilization period. Respondents generally conduct tests even more frequently than required by our regulations. We only consider the burden to be the time to submit the information to MMS. We estimate respondents submit the results of approximately 13,000 well tests each year in the GOMR and about 600 in the POCSR, with an estimated annual hour burden of 1,336 hours. Based on $50 per hour, the hour burden cost to respondents is $66,800. The burden varies only slightly for electronic versus paper form submission, and is calculated as follows:

In the Gulf of Mexico OCS Region:

25% of 13,000 well tests via electronic submission = 3,250 reports x 5 minutes/60 = 271 hours.

75% of 13,000 via paper form/average 5 wells/form = 1,950 forms x 30 minutes/60 = 975 hours.

In the Pacific OCS Region:

100% of 600 well tests via paper form/average 20 wells/form = 30 forms x 3 hours = 90 hours.

Estimated Reporting and Recordkeeping “Non-Hour Cost” Burden: We have identified no “non-hour cost” burdens associated with the subject form.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency ”* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on April 1, 2002, we published a Federal Register notice (67 FR 15408) announcing that we would submit this ICR to OMB for approval. The notice provided the required 60-day comment period. In addition, 30 CFR 250.199 and the PRA statement on the form explain that the MMS will accept comments at any time on the information collection burden of our regulations and associated forms. We display the OMB control number and provide the address for sending comments to MMS. We have received no comments in response to these efforts.

If you wish to comment in response to this notice, you may send your comments to the offices listed under the ADDRESSES section of this notice. OMB has up to 60 days to approve or disapprove the information collection but may respond after 30 days. Therefore, to ensure maximum consideration, OMB should receive public comments by August 7, 2002.

Public Comment Policy: Our practice is to make comments, including names and home addresses of respondents, available for public review during regular business hours. Individual respondents may request that we withhold their home address from the record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

MMS Information Collection Clearance Officer: Jo Ann Lauterbach, (202) 208-7744.

Dated: June 5, 2002.
E.P. Danenberger,
Chief, Engineering and Operations Division.

[FR Doc. 02-16925 Filed 7-5-02; 8:45 am]

BILLING CODE 4310-MR-P